DEPARTMENT OF AGRICULTURE

Natural Resources Conservation Service

Notice of Proposed Changes to Section IV of the Field Office Technical Guide (FOTG) of the Natural Resources Conservation Service in Wisconsin

AGENCY: Natural Resources Conservation Service (NRCS) in Wisconsin, U.S. Department of Agriculture.

ACTION: Notice of availability of a proposed change in section IV of the FOTG of the NRCS in Wisconsin for review and comment.

SUMMARY: It is the intention of NRCS in Wisconsin to issue a revised conservation practice standard in Section IV of the FOTG. The revised standard is Nutrient Management (Code 590). This practice may be used in conservation systems that treat highly erodible land, land where nutrients are applied for agricultural purposes, and to develop land application strategies for manure generated by animal feeding operations.

DATES: Comments will be received for a 30-day period commencing with this date of publication.

ADDRESSES: Inquire in writing to Patrick Murphy, State Resource Conservationist, Natural Resources Conservation Service (NRCS), 6515 Watts Road, Suite 200 Madison, WI 53719-2726. Copies of this standard will be made available upon written request. You may submit electronic requests and comments to pat.murphy@wi.usda.gov.

FOR FURTHER INFORMATION CONTACT: Patrick Murphy, 608-276-8732.

SUPPLEMENTARY INFORMATION: Section 343 of the Federal Agriculture Improvement and Reform Act of 1996 states that revisions made after enactment of the law, to NRCS state technical guides used to carry out highly erodible land and wetland provisions of the law, shall be made available for public review and comment. For the next 30 days, the NRCS in Wisconsin will receive comments relative to the proposed change. Following that period, a determination will be made by the NRCS in Wisconsin regarding disposition of those comments and a final determination of change will be made.

Dated: March 29, 2002.
Patricia S. Leavenworth,
State Conservationist, Madison, Wisconsin.

[FR Doc. 02-8370 Filed 4-5-02; 8:45 am]

BILLING CODE 3410-16-P